DEPARTMENT OF ENERGY

Agency Information Collection Extension

AGENCY: U.S. Department of Energy.

ACTION: Notice and request for OMB review and comment.

SUMMARY: The Department of Energy (DOE) invites public comment on a proposed collection of information that DOE is developing for submission to the Office of Management and Budget (OMB) pursuant to the Paperwork Reduction Act of 1995. The information collection requests a three-year extension of its Semi-Annual Davis-Bacon Enforcement Report. All Federal agencies administering programs subject to Davis-Bacon wage provisions are required by to submit a report of all new covered contracts/projects and all compliance and enforcement activities every six months to the Department of Labor (DOL). In order for DOE to comply with this reporting requirement, it must collect contract and enforcement information from the Recovery Act funded Loan Borrowers, Loan Guarantee Borrowers, DOE direct contractors, and other prime contractors that administer DOE programs subject to Davis-Bacon requirements. DOE will require that such entities complete and submit a Semi-Annual Enforcement Report every six months, by the 21st of April and the 21st of October each year.

DATES: Comments regarding this collection must be received on or before November 24, 2020. If you anticipate difficulty in submitting comments within that period, contact the person listed below as soon as possible.

ADDRESSES: Written comments should be sent to:

DOE Desk Officer, Office of Information and Regulatory Affairs, Office of Management and Budget, New Executive Office Building, Room 10102, 735 17th Street, NW, Washington, DC 20503

And to:

John M. Sullivan, GC-63, U.S. Department of Energy, 1000 Independence Avenue SW, Washington, DC 20585, Or by fax at (202) 586-0971; or by email to john.m.sullivan@hq.doe.gov.

FOR FURTHER INFORMATION CONTACT: Requests for additional information or copies of the information collection instrument and instructions should be directed to:

John M. Sullivan, Attorney-Advisor (Labor), GC-63, U.S. Department of Energy, 1000 Independence Avenue SW, Washington, DC 20585, or by fax at (202) 586-0971 or by email to john.m.sullivan@hq.doe.gov.

SUPPLEMENTARY INFORMATION: This information collection request contains: (1) OMB No.: 1910-5165; (2) Information Collection Request Title: Davis-Bacon Semi-Annual Enforcement Report; (3) Type of Request: Renewal; (4) Purpose: This information collection ensures Departmental compliance with 29 CFR 5.7(b). The respondents are Department of Energy M&O, Facilities Management Contractors, and recipients of financial assistance whose work is subject to the Davis-Bacon Act and Davis-Bacon Related Acts; (5) Annual Estimated Number of Respondents: 75; (6) Annual Estimated Number of Total Responses: 150; (7) Annual Estimated Number of Burden Hours: 2 per respondent annually, for a total of 300 per year; (8) Annual Estimated Reporting and Recordkeeping Cost Burden: $103.00 per respondent.

Statutory Authority: 29 CFR 5.7(b).

Signing Authority

This document of the Department of Energy was signed on September 21, 2020, by John T. Lucas, Deputy General Counsel for Transactions, Technology and Contractor Human Resources, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 22, 2020.
Treena V. Garrett,
Federal Register Liaison Officer, U.S. Department of Energy.

[FR Doc. 2020-21171 Filed 9-24-20; 8:45 am]

BILLING CODE 6450-01-P